DEPARTMENT OF JUSTICE

Antitrust Division

Notice Pursuant to the National Cooperative Research and Production Act of 1993—Telemanagement Forum

Notice is hereby given that, on August 22, 2011, pursuant to Section 6(a) of the National Cooperative Research and Production Act of 1993, 15 U.S.C. 4301 et seq. (“the Act”), TeleManagement Forum (“The Forum”), has filed written notifications simultaneously with the Attorney General and the Federal Trade Commission disclosing changes in its membership. The notifications were filed for the purpose of extending the Act's provisions limiting the recovery of antitrust plaintiffs to actual damages under specified circumstances. Specifically, 7P Solutions & Consulting AG, Koeln, GERMANY; A&K Telecoms Consulting Services (UK) Limited, Slough, UNITED KINGDOM; ACG Research, Gilbert, AZ; Advenis, Linden, BELGIUM; Alekstra Oy, Helsinki, FINLAND; Altech ISIS, a Division of Altech Information Technologies (Pty) Limited, Cape Town, SOUTH AFRICA; Altion Technologies Ltd, Dublin, IRELAND; AmberNet Technologies, Inc., Adison, TX; Antillean Technology & Consulting Hollywood, FL; Arab Digital Factory, Amman, JORDAN; Areeba Guinea SA (Conakry), Almamyah, Conakry, GUINEA; ASPIDER Solutions US Inc, Salem, MA; Auxia Partners, New York, NY; Avigato Consulting GmbH, Bad Homburg, GERMANY; Azur Telecom RCA, Bangui, CENTRAL AFRICAN REPUBLIC; BaseN,Helsinki, FINLAND; Bintel Ltd, Dubai, UNITED ARAB EMIRATES; Blue Buffalo Group, Lafayette, CO; Bwired, Sandton, SOUTH AFRICA; CABLEUROPA S.A.U. (ONO), Madrid, SPAIN; Calltrix Ltd, London, UNITED KINGDOM; Canoe Ventures, Centennial, CO; Centillion Consulting, Karachi, PAKISTAN; Cloud Strategy Partners LLC, Scotts Valley, CA; Consultingiss LLC, Oceanside, CA; Corporacion Nacional de Telecomunicaciones CNT EP, Quito, Pichincha, ECUADOR; Credit Suisse, New York, NY; Curtin University, Perth, Western Australia, AUSTRALIA; DCENR Ireland, Dublin, IRELAND; Dell Inc, Round Rock, TX; Electricity Networks Corporation trading as Western Power, Perth, WA, AUSTRALIA; Equateir Telecom Congo SA, RCCM Brazzaville, CONGO; Ergon Informatik AG, Zurich, SWITZERLAND; ETI Software Solutions, Norcross, GA; Expresso Telecom Group, Dubai, UNITED ARAB EMIRATES; Fusion Communications Corporation, Chiyoda-ku, Tokyo, JAPAN; Futuro Exito Sp. z.o.o., Lubin, POLAND; Gevenue Technologies (AKA Beesion Technologies), Fort Lauderdale, FL; GRASP TECHNOLOGY PTY LIMITTED, Newport, Victoria, AUSTRALIA; Humbug Telecom Labs Ltd, Ramat Hasharon, ISRAEL; Ideasoft Uruguay S.R.L., Montevideo CP, URUGUAY; IP TOTAL SOFTWARE S.A., Cali, COLOMBIA; Ixonos Business Solutions, Helsinki, FINLAND; Kopint-Datorg zRt, Budapest, HUNGARY; KPMG International, Amstelveen, NETHERLANDS; Marco Giaccaglini & C. S.a.a, Milano, ITALY; Maxis Berhad, Kuala Lumpur, Kuala Lumpur, MALAYSIA; Mentum SA, Velizy Villacoublay, Velizy, FRANCE; Mosaic Business Advisory Services, Inc., Atlanta, GA; MY SOFT SRL, Bucharest, ROMANIA; Nephologic Ltd, Dublin, IRELAND; Net Servicos, Chacara Santo Antonio, Sao Paulo—SP, BRAZIL; Netadmin Systems, Linkoping, SWEDEN; NETCON LTDA., Recife, PE, BRAZIL; NetTraffic, Frisco, TX; Neuralitic, Montreal, Quebec, CANADA; NII Holdings, Inc, Reston, VA; Nimbula, Mountain View, CA; Nordiska Servercentralen AB, Bromma, SWEDEN; O2 Slovakia, Bratislava, SLOVAK REPUBLIC; Olinda Solutions, Denver, CO; Orbus Software UK, London, UNITED KINGDOM; Packetware India Pvt. Ltd., Hyderabad, Andhra Pradesh, INDIA; Paltel Group, Nablus, PALENTINIAN TERRITORY, OCCUPIED; Pantha Corp Pty Ltd, Manly, NSW, AUSTRALIA; PreClarity, Victor, NY; ProCom Consulting, Alpharetta, GA; Protiviti Member Firm Kuwait, KUWAIT; Proventa AG, Frankfurt am Main, Hessen, GERMANY; RainStor Inc, San Francisco, CA; Ramp-Rate, Santa Monica, CA; Revenue Risk Management Solutions, Bracknell, Berkshire, UNITED KINGDOM; Robi Axiata Limited, Gulshan-1, Dhaka, BANGLADESH; RubieM Technologies, Johannesburg, SOUTH AFRICA; Saugatuck Technology, Westport, CT; Scancom Ltd, Ridge-Accra, GHANA; SETAR, Oranjestad, ARUBA; Sistema Shyam TeleServices Ltd., Gurgaon, Haryana, INDIA; Sivnet, Inc., Montreal, Quebec, CANADA; SK Regional Services Pte Ltd, Kuala Lumpur, MALAYSIA; SL Software Consult Hungary Ltd, Pecs, HUNGARY; SML Technologies, Jakarta, Selatan, INDONESIA; Sofrecom-Groupe OrangeFT, Vincennes, FRANCE; Softera Oy, Espoo, FINLAND; Sparx Systems Pty Ltd, Creswick, Victoria, AUSTRALIA; Split, NY; StarHub, Singapore, SINGAPORE; State Street Corporation, N Quincy, MA; SWIFT, La Hulpe, BELGIUM; SWISSFOX Telecommunications Holding AG, Zug, SWITZERLAND; Telefonica Global Technology SA, Caba, ARGENTINA; The Now Factory, Sandyford, Dublin, IRELAND; Thinxtream Technologies, Singapore, SINGAPORE; ThomsonReuters, New York, NY; TIE Kinetix,Utrecht, NETHERLANDS; TOA Technologies, Inc., Beachwood, CA; Tom Sawyer Software, Oakland, CA; tw telecom, Littleton, CO; Ultimate Software, Weston, FL; Univa, Lisle, IL; USAN Gabon (AZUR), Libreville, GABON; VanceInfo Technologies Australia Pty. Ltd., Melbourne, Victoria, AUSTRALIA; Vesta Corporation, Portland, OR; West Avenue Capital Markets Partners, Darien, CT; Wind Telecomunicaziono SpA, Roma, ITALY; wwite p/l, Eaglemont, Victoria, AUSTRALIA; Zenith System Solutions, Inc., Mississauga, Ontario, CANADA; and Zenoss, Annapolis, MD, have been added as parties to this venture.

The following existing members have changed their names: Ambernet Technologies to AmberNet Technologies, Inc., Adison, TX; Aran Technologies Ltd to ARANTECH, Blackrock, Co. Dublin, IRELAND; MTN Guinea Conakry to Areeba Guinea SA (Conakry), Almamyah, Conakry, GUINEA; BaseN North America Inc to BaseN, Helsinki, FINLAND; BATMANN Consulting to BATMANN Analytics, Centennial, CO; CA to CA Technologies, Inc., Portsmouth, NH; CGI Group Inc. to CGI Info Systems Management Consulting Inc., Toronto, Ontario, CANADA; Clarity International Ltd to Clarity, Sydney, NSW, AUSTRALIA; Consultingiss to Consultingiss LLC, Oceanside, CA; DCENR to DCENR Ireland, Dublin, IRELAND; Eircom to Ericom Ltd, Dublin, IRELAND; ETI Software to ETI Software Solutions, Norcross, GA; Gevenue Technologies to Gevenue Technologies (AKA Beesion Technologies), Fort Lauderdale, FL; SITRONICS TS, CZ to JSC Sitronics, Prague CZECH REPUBLIC; KPMG LLP to KPMG International, Amstelveen, NETHERLANDS; Laboratory For Telecomm-Faculty of Elect. Eng. to Laboratory for Telecomm-Faculty of Elect. Eng. University of Ljubljana, Ljubljana, SLOVENIA; SkyTerra Communications to LightSquared, Reston, VA; GMS Consulting to Maksen Consulting, S.A., Lisbon, PORTUGAL; Maxis Communications Bhd to Maxis Broadband Sdn Bhd, Kuala Lumpur, Kuala Lumpur, MALAYSIA; Martin Dawes Systems to MDS, Fearnhead, Warrington, UNITED KINGDOM; Mentum to Mentum SA, Velizy Villacoublay, Velizy, FRANCE; MITRE Corporation to MITRE, Bedford, NY; NetAge Solutions GmbH to netage solutions, Muenchen, GERMANY; Nextel International Holdings Inc. to NII Holdings, Inc., Reston, VA; MegaFon JSC to OJSC “Megafon”, Moscow, RUSSIA; Open Cloud to OpenCloud, Cambridge, UNITED KINGDOM; Protiviti Global Middle East to Protiviti Member Firm Kuwait, Kuwait, KUWAIT; Telkom R&D Center to PT Telkomunikasi Indonesia, Bandung, INDONESIA; QATAR TELECOM (Qtel) to QATAR TELECOM (Qtel International), Doha, QATAR; RainStor to RainStor Inc, San Francisco, CA; Axiata Bangladesh Limited to Robi Axiata Limited, Gulshan-1, Dhaka, BANGLADESH; Telecominications to RubieM Technologies, Johannesburg, SOUTH AFRICA; Sivnet to Sivnet, Inc., Montreal, Quebec, CANADA; Quindell Enterprise Solutions to SMI Telecoms LLC, London, UNITED KINGDOM; IDS Scheer AG to Software AG, Saarbrucken, GERMANY; Tech Mahindra Ltd to Tech Mahindra Limited, Andheri East, Mumbai, INDIA; O2 Ireland to Telefonica Ireland, Dublin IRELAND; TTI Telecom to TEOCO Corporation, Fairfax, VA; it vision GmbH to The Quality Group it vision GmbH, Hamburg, GERMANY; TIE MamboFive b.v. to TIE Kinetix, Utrecht, NETHERLANDS; TOA Technologies to TOA Technologies, Inc., Beachwood, CA; TW Telecom Inc. to tw telecom, Littleton, CO; EPM Telecomunicaciones S.A.E.S.P to UNE EPM Telecomunicaciones S.A.,oma Los Balsos, Medellin, Antioquia, COLOMBIA; VanceInfo Technologies Australia to VanceInfo Technologies Australia Pty. Ltd., Melbourne, Victoria, AUSTRALIA; AIST ISP to ZAO `AIST', Togliatti, RUSSIA; Zenith System Solutions to Zenith System Solutions, Inc., Mississauga, Ontario, CANADA.

The following members have withdrawn from this venture: Agilent Technologies, Folsom, CA; Aljeel aljadeed for Technology, Tripoli, LIBYA; Almadar Aljadid, Tripoli, LIBYA; Alphion Corporation, Princeton Junction, NJ; Altor Networks, Redwood Shores, CA; Aspivia Ltd, Bournemouth, UNITED KINGDOM; Aviat Networks, Melbourne, FL; Billskill AB, Stockholm, SWEDEN; Bull Telecom & Media, Les-Clayes-Sous-Bois, FRANCE; Calix, Inc., Petaluma, CA; celsius technologies, Charleroi, BELGIUM; Center of Excellence, Abu Dhabi, UNITED ARAB EMIRATES; Compunet Services, Inc., Stockbridge, GA; Cordys, Putten, NETHERLANDS; Cybercom Sweden South, Stockholm, SWEDEN; Dataduct Technologies Ltd, Dunlaoghaire, Dublin, IRELAND; Datanomic Limited, Cambridge, UNITED KINGDOM; Dorado Software, Folsom, CA; EHF Consultoria, Santa Rita do Sapucai, MG, BRAZIL; Elsag Datamat spa, Genova, ITALY; Etihad Atheeb Telecom Co., Riyadh, SAUDI ARABIA; Etisalat Nigeria, Banana Island, Ikoyi, Lagos, Nigeria; Eutelsat S.A., Paris, FRANCE; Exploit Technologies LLC, Lone Tree, CO; Fluke Networks, Duluth, GA; GDI Systems Inc., Zagreb, CROATIA; Georg-August Universitat, Gottingen, Gottingen, GERMANY; Guavus, Inc., Sunnyvale, CA; Hansen Corporation Europe, Teddington, Middlesex, UNITED KINGDOM; iLink Systems, Redmond, WA; InteliPower, Johannesburg, Gauteng, SOUTH AFRICA; Intelligent Communication Software Entwicklungs GmbH, Muenchen, Bayern, GERMANY; Interfacing Technologies Corp., Montreal, Quebec, CANADA; InterSoft, Melbourne, Victoria, AUSTRALIA; isilogica Sarl, Arzier, Vaud, SWITZERLAND; IST Holdings (Pty) Ltd, Pretoria, Gauteing, SOUTH AFRICA; iToolsOnline Ltd., Mt Albert, Auckland, NEW ZEALAND; KARA DANISMANLIK YAZILIM Ve BILISIM TICARET LTD. STI, Istanbul, TURKEY; LHS Telekommunikation GmbH & Co. KG, Frankfurt, GERMANY; Libyan International telecommunication Company, Tripoli, LIBYA; Libyan Post, Telecommunication and Information Technology co, Tripoli, LIBYA; Marand d.o.o., Ljublijana, SLOVENIA; McShane Consulting, Rollong Meadows, IL; MHM & Partner AG, Rotkreuz, SWITZERLAND; mobily, Riyadh, SAUDI ARABIA; Moov Benin SA, Porto-Novo, REPUBLIC OF BENIN; MOOV Central African Republic, Bangui, CENTRAL AFRICAN REPUBLIC; Moov Gabon, Liberville, GABON; Moov Togo, Lome, TOGO; Motorola, Arlington Heights, IL; MTC Touch, Beirut, LEBANON; NAB, Washington,DC; National Lab. of Software Development Environment, Beijing, PEOPLE'S REPUBLIC OF CHINA; Nixu Software Oy Ltd., Espoo, FINLAND; Northwestel Inc., Whitehorse, YT, CANADA; NuaTel, Cork, IRELAND; PacketFront Systems AB, Kista, SWEDEN; Pakistan Telecommunication Company Limited PTCL, Islamabad, PAKISTAN; Perceval, Brussels, BELGIUM; Perot Systems TSI (India) Ltd., North Sydney, NSW, AUSTRALIA; PSI Transcom GmbH, Dusseldorf, GERMANY; Reach Global Services Limited, Wanchai, HONG KONG-CHINA; Savvis, Town & Country, MO; Scuola Superiore Sant'Anna, Pisa, ITALY; Selatra Limited, Cork, IRELAND; Smartlabs, Moscow, RUSSIA; Strategic Consulting Alliance, Amersfoort, NETHERLANDS; Striata (Australia) Pty Ltd, Sydney, NSW, AUSTRALIA; Sygnity, Warsaw, Mazowieckie, POLAND; Sykora Data Center, Ostrava, CZECH REPUBLIC; TDC, Kobenhavn C (Copenhagen), DENMARK; Telcel Niger (Etisalat), Niamey, REPUBLIC OF NIGERIA; The CNIA Group, Westfield, NJ; Torokina Networks, Artarmon, NSW, AUSTRALIA; uFONE, Islamabad, PAKISTAN; University of Maryland, College Park, MD; VISITEK, Jakarta Selatan, Jakarta, Indonesia; WiTech, Cascina, Pisa, ITALY; Yyield Group BV, Bennebroek, NETHERLANDS; Zain, Safat, KUWAIT.

In addition, the following have changed their addresses: Aircom International Ltd. to Leatherhead, Surrey, UNITED KINGDOM; AT&T to Florham Park, NJ; CHR Solutions to Houston, TX; HIKESIYA Co., Ltd. to Yokohama-city, Kanagawa, JAPAN; Infosys Technologies Ltd. to Bangalore, Karnataka, INDIA; Mobile TeleSystems OJSC to Moscow, RUSSIA; netage solutions to Muenchen, GERMANY; Neural Technologies to Petersfield, Hampshire, UNITED KINGDOM; OJSC “Megafon” to Moscow, RUSSIA; OpenCloud to Cambridge, UNITED KINGDOM; and TelcoSI to St Leonards, New South Wales, AUSTRALIA.

No other changes have been made in either the membership or planned activity of the group research project. Membership in this group research project remains open, and The Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on February 15, 2011. A notice was published in the Federal Register pursuant to Section 6(b) of the Act on April 8, 2011 (76 FR 19788).

Patricia A. Brink,
Director of Civil Enforcement, Antitrust Division.

[FR Doc. 2011-29809 Filed 11-17-11; 8:45 am]

BILLING CODE P